DEPARTMENT OF THE TREASURY

Internal Revenue Service

26 CFR Part 301

[REG-116614-08]

RIN 1545-BH90

Disregarded Entities and Excise Taxes; Correction

AGENCY: Internal Revenue Service (IRS), Treasury.

ACTION: Correction to notice of proposed rulemaking by cross-reference to temporary regulations.

SUMMARY: This document contains corrections to a notice of proposed rulemaking by cross-reference to temporary regulations (REG-116614-08) that was published in the Federal Register on Monday, September 14, 2009, clarifying that a single-owner eligible entity that is disregarded as an entity separate from its owner for any purpose, but regarded as a separate entity for certain excise tax purposes, is treated as a corporation for tax administration purposes related to those excise taxes.

FOR FURTHER INFORMATION CONTACT: Michael H. Beker, (202) 622-3070 (not a toll-free number).

SUPPLEMENTARY INFORMATION:

Background

The correction notice that is the subject of this document is under section 7701 of the Internal Revenue Code.

Need for Correction

As published on Monday, September 14, 2009 (74 FR 46957), the notice of proposed rulemaking by cross-reference to temporary regulations (REG-116614-08) contains errors that may prove to be misleading and are in need of clarification.

Correction of Publication

Accordingly, the publication of the notice of proposed rulemaking by cross-reference to temporary regulations (REG-116614-08), which was the subject of FR Doc. E9-21986, is corrected as follows:

1. On page 46958, column 2, instructional paragraph 2, item number 4, the language “4. Revising paragraphs (e)(2), (e)(5) and (e)(6).” is corrected to read “4. Revising paragraph (e)(2).”.

2. On page 46958, column 2, new item number 5 is added to read “5. Adding two sentences at the end of paragraph (e)(5).”.

3. On page 46958, column 2, instructional paragraph 2, new item number 6 is added to read “6. Adding one sentence at the end of paragraph (e)(6).”.

§ 301.7701-2 [Corrected]

4. On page 46958, column 2, in § 301.7701-2, paragraph (e)(5), first line, the language “[The text of this proposed” is corrected to read “* * * [The text of this proposed”.

5. On page 46958, column 2, in § 301.7701-2, paragraph (e)(6), first line, the language, “[The text of this proposed” is corrected to read “* * * [The text of this proposed”.

Diane O. Williams,
Federal Register Liaison, Publications and Regulations Branch, Legal Processing Division, Associate Chief Counsel, (Procedure and Administration).

[FR Doc. E9-24655 Filed 10-13-09; 8:45 am]

BILLING CODE 4830-01-P